DEPARTMENT OF COMMERCE

National Oceanic and Atmospheric Administration

[RTID 0648-XD219]

Endangered Species; File No. 23200

AGENCY: National Marine Fisheries Service (NMFS), National Oceanic and Atmospheric Administration (NOAA), Commerce.

ACTION: Notice; receipt of application for a permit modification.

SUMMARY: Notice is hereby given that Frederick Scharf, Ph.D., University of North Carolina Wilmington, 601 S. College Road, Wilmington, NC 28403, has requested a modification to scientific research Permit No. 23200-01.

DATES: Written comments must be received on or before September 6, 2023.

ADDRESSES: The modification request and related documents are available for review by selecting “Records Open for Public Comment” from the Features box on the Applications and Permits for Protected Species (APPS) home page, https://apps.nmfs.noaa.gov, and then selecting File No. 23200 Mod 6 from the list of available applications. These documents are also available upon written request via email to NMFS.Pr1Comments@noaa.gov.

Written comments on this application should be submitted via email to NMFS.Pr1Comments@noaa.gov. Please include File No. 23200 in the subject line of the email comment.

Those individuals requesting a public hearing should submit a written request via email to NMFS.Pr1Comments@noaa.gov. The request should set forth the specific reasons why a hearing on this application would be appropriate.

FOR FURTHER INFORMATION CONTACT: Erin Markin, Ph.D., or Malcolm Mohead, (301) 427-8401.

SUPPLEMENTARY INFORMATION: The subject modification to Permit No. 23200-01, issued on January 24, 2022 (87 FR 7820, February 10, 2022) is requested under the authority of the Endangered Species Act of 1973, as amended (16 U.S.C. 1531 et seq.) and the regulations governing the taking, importing, and exporting of endangered and threatened species (50 CFR parts 222-226).

Permit No. 23200-01 authorizes the permit holder to: conduct scientific research on adult, subadult, and juvenile Atlantic (Acipenser oxyrinchus) and shortnose (A. brevirostrum) sturgeon to determine their abundance, distribution, habitat use, and migration dynamics in the coastal rivers and estuaries of North Carolina basins (Cape Fear, Neuse, Tar/Pamlico, Roanoke/Chowan). Researchers may capture Atlantic and shortnose sturgeon using gill nets, trammel nets, or trawls, measure, weigh, mark (passive integrated transponder (PIT), Floy), biologically sample (tissue), anesthetize, acoustically tag, and photograph/video sturgeon prior to release. The permit holder requests authorization to: (1) increase the number of juvenile, subadult, and adult Atlantic sturgeon to receive an internal acoustic tag; (2) add external acoustic tagging of Atlantic sturgeon; and (3) conduct research on Atlantic sturgeon captured under other authority in the Frying Pan Shoals area. Up to 5 additional subadult/adult and up to 20 juvenile Atlantic sturgeon would receive an internal acoustic tagging annually in each location. Up to 75 subadult/adult and 50 juvenile Atlantic sturgeon may be captured under other authority during surveys in the Frying Pan Shoals area. Sturgeon captured under other authority may be marked (PIT, Floy), biologically sampled (tissue), measured, weighed, and photographed/videoed prior to release. A subset may receive either an external or internal acoustic tag prior to release. The permit is valid through January 31, 2025.

Dated: August 1, 2023.
Julia M. Harrison,
Chief, Permits and Conservation Division, Office of Protected Resources, National Marine Fisheries Service.

[FR Doc. 2023-16808 Filed 8-4-23; 8:45 am]

BILLING CODE 3510-22-P